DEPARTMENT OF AGRICULTURE

Submission for OMB Review; Comment Request

The Department of Agriculture has submitted the following information collection requirement(s) to OMB for review and approval under the Paperwork Reduction Act of 1995, Public Law 104-13. Comments are requested regarding: whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology Comments regarding these information collections are best assured of having their full effect if received by August 25, 2025. Written comments and recommendations for the proposed information collection should be submitted within 30 days of the publication of this notice on the following website www.reginfo.gov/public/do/PRAMain. Find this particular information collection by selecting “Currently under 30-day Review—Open for Public Comments” or by using the search function

An agency may not conduct or sponsor a collection of information unless the collection of information displays a currently valid OMB control number and the agency informs potential persons who are to respond to the collection of information that such persons are not required to respond to the collection of information unless it displays a currently valid OMB control number.

Agricultural Marketing Service

Title: Dairy Products Mandatory Sales Reporting.

OMB Control Number: 0581-0274.

Summary of Collection: The Mandatory Price Reporting Act of 2010 amended section 273(d) of the Agricultural Marketing Act of 1946 (the Act), requiring the Secretary of Agriculture (Secretary) to establish an electronic reporting system for certain manufacturers of dairy products to report sales information under a mandatory dairy product reporting program.

Data collection for cheddar cheese, butter, dry whey, or nonfat dry milk sales is limited to manufacturing plants producing annually 1 million pounds or more of one of the surveyed commodities specified in the mandatory reporting requirements of the Dairy Products Reporting Programs (7 CFR 1170.7 through 1170.12). AMS administers programs that facilitate the efficient, fair marketing of U.S. agricultural products, including food, fiber, and specialty crops. The data collected on these surveys enables AMS to report information in a timely manner and promote competition in the dairy industry. Additionally, the sales information reported is used by USDA to calculate minimum prices paid to dairy farmers or their cooperative associations for milk marketed through the Federal milk marketing order system. Finally, reports are used to verify compliance with marketing order regulations.

Need and Use of the Information: Survey respondents are required to submit weekly sales information through a secure internet connection using a username and password to report prices. After the respondent has logged onto the web-based software, they are directed to the appropriate electronic weekly product forms to be completed. The Dairy Products Sales Survey Annual Validation Worksheet is conducted in person and submitted on forms. Follow-ups, where necessary to obtain missing information, are conducted by phone. The forms being submitted for approval list the questions the respondents complete: total pounds sold, total dollars, and the price per pound. Data received from these surveys is used by USDA to calculate minimum prices for raw milk marketed through the Federal milk marketing order system. In addition, USDA publishes aggregate weekly market information based on survey results. This information is used by industry members to make informed decisions about the marketing of dairy products. During routine audits, USDA compares information reported on these forms with manufacturer records to verify compliance with DPMRP Regulations.

Description of Respondents: Businesses or other for profits—Cheddar Cheese, 40 lb. Blocks.

Number of Respondents: 180.

Frequency of Responses: Reporting: On occasion; Weekly; Annually.

Total Burden Hours: 1,397.

Levi S. Harrell,
Departmental Information Collection Clearance Officer.

[FR Doc. 2025-13958 Filed 7-23-25; 8:45 am]

BILLING CODE 3410-02-P